DEPARTMENT OF TRANSPORTATION

Office of the Secretary

Aviation Proceedings, Agreements Filed the Week Ending September 19, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0287.

Date Filed: September 18, 2008.

Parties: Members of the International Air Transport Association.

Subject: TC2 Within Middle East Expedited Resolution 002ca (Memo 0188); Intended effective date: 1 January 2009.

Docket Number: DOT-OST-2008-0288.

Date Filed: September 18, 2008.

Parties: Members of the International Air Transport Association.

Subject: TC23/123 Africa-TC3 (except South West Pacific) , Resolution 015v (Memo 0389) , Intended effective date: 15 October 2008.

Docket Number: DOT-OST-2008-0289.

Date Filed: September 18, 2008.

Parties: Members of the International Air Transport Association.

Subject: TC23/123 Africa-South East Asia Expedited, Resolution 002bw (Memo 0390), Intended effective date: 15 October 2008.

Docket Number: DOT-OST-2008-0290.

Date Filed: September 18, 2008.

Parties: Members of the International Air Transport Association.

Subject: TC23/123 Middle East-TC3 (except South West Pacific), Resolution 015v (Memo 0391), Intended effective date: 15 October 2008.

Docket Number: DOT-OST-2008-0291.

Date Filed: September 18, 2008.

Parties: Members of the International Air Transport Association.

Subject: TC23/123 Middle East-South East Asia Expedited, Resolution 002hh (Memo 0392), Intended effective date: 15 October 2008.

Renee V. Wright,
Program Manager, Docket Operation, Federal Register Liaison.

[FR Doc. E8-23407 Filed 10-2-08; 8:45 am]

BILLING CODE 4910-9X-P